DEPARTMENT OF COMMERCE

Census Bureau

Request for Nominations of Members To Serve on the Federal Economic Statistics Advisory Committee

AGENCY: Bureau of the Census, Department of Commerce.

ACTION: Notice of request for nominations.

SUMMARY: The Secretary of Commerce requests nominations of individuals to the Federal Economic Statistics Advisory Committee. The Secretary will consider nominations received in response to this notice, as well as from other sources. The SUPPLEMENTARY INFORMATION section of this notice provides Committee and membership criteria.

DATES: Please submit nominations by April 12, 2019. The Bureau of the Census (Census Bureau) will retain nominations received after this date for consideration should additional vacancies occur.

ADDRESSES: Please submit nominations by Email to james.r.spletzer@census.gov (subject line “2019 FESAC Nominations”), or by letter submission to James R. Spletzer, Designated Federal Official, 2019 FESAC Nominations, Department of Commerce, U.S. Census Bureau, Room 5K175, 4600 Silver Hill Road, Washington, DC 20233. Nominations also may be submitted via fax at 301-763-8609.

FOR FURTHER INFORMATION CONTACT: James R. Spletzer, Designated Federal Official, Department of Commerce, U.S. Census Bureau, Research and Methodology Directorate, Room 5K175, 4600 Silver Hill Road, Washington, DC 20233, telephone 301-763-4069, email: james.r.spletzer@census.gov. For TTY callers, please use the Federal Relay Service 1-800-877-8339.

SUPPLEMENTARY INFORMATION: The Federal Economic Statistics Advisory Committee (the “Committee”) was established in accordance with the Federal Advisory Committee Act (Title 5, United States Code, Appendix 2). The following provides information about the Committee, membership, and the nomination process.

Objectives and Duties

1. The Committee advises the Directors of the Department's statistical agencies, the Bureau of Economic Analysis (BEA) and the Census Bureau, as well as the Commissioner of the Department of Labor's Bureau of Labor Statistics (BLS) on statistical methodology and other technical matters related to the design, collection, tabulation, and analysis of federal economic statistics.

2. The Committee will function solely as an advisory committee to the senior officials of BEA, the Census Bureau, and BLS (the agencies). Important aspects of the Committee's responsibilities include, but are not limited to:

a. Recommending research to address important technical problems arising in federal economic statistics;

b. Identifying areas in which better coordination of the agencies' activities would be beneficial;

c. Exploring ways to enhance the agencies' economic indicators to make them timelier, more accurate, and more specific to meeting changing demands and future data needs;

d. Improving the means, methods, and techniques to obtain economic information needed to produce current and future economic indicators; and

e. Coordinating, in its identification of agenda items, with other existing academic advisory committees chartered to provide agency-specific advice, for the purpose of avoiding duplication of effort.

3. The Committee functions solely as an advisory body under the Federal Advisory Committee Act.

4. The Committee reports to the Under Secretary for Economic Affairs.

Membership

1. The Committee is comprised of approximately 16 members who serve at the pleasure of the Secretary of Commerce. Members serve renewable three year terms. The Committee is currently filling eight seats. In future years, the involved agencies will stagger the starting date of new members to avoid large numbers of vacancies at one time.

2. Members shall be selected by the Department of Commerce and appointed by the Secretary, in consultation with the Census Bureau, BEA, and BLS and under the coordination of the Under Secretary for Economic Affairs.

3. Committee members shall be professionals in appropriate disciplines, including economists, statisticians, survey methodologists, data scientists, and behavioral scientists who are prominent experts in their fields, recognized for their scientific, professional, and operational achievements and objectivity.

4. Membership will represent data users with expertise from the public sector, academia, and the private sector. Membership will be chosen to achieve a balance that will meet the needs of the Secretary.

a. Members shall serve as Special Government Employees (SGEs) and shall be subject to ethics rules applicable to SGEs.

b. Members will serve for a three-year term. Members may serve multiple terms at the discretion of the Secretary, in consultation with the agencies.

c. Membership renewal will be reevaluated by the Secretary, in consultation with the agencies, at the conclusion of each member's current term. Factors considered for renewal include: Current needs of the Secretary, meeting attendance, and active participation.

d. Should a Committee member be unable to complete a three-year term, at the Secretary's discretion and in consultation with the agencies, a new member may be selected to complete that term for the duration of the time remaining or begin a new term of three years.

e. The agencies, by consensus agreement, shall appoint the chairperson annually from the Committee membership. Chairpersons shall be permitted to succeed themselves.

5. Committee members are selected in accordance with applicable Department of Commerce guidelines.

6. The Committee aims to have balanced representation, considering such factors as geography and technical and scientific expertise. The Committee will include members from diverse backgrounds, including academia and private enterprise, which are further diversified by business type or industry, geography, and other factors.

7. Members shall not reference or otherwise utilize their membership on the Committee in connection with public statements made in their personal capacities without a disclaimer that the views expressed are their own and do not represent the views of the Federal Economic Statistics Advisory Committee, the Census Bureau, BEA, BLS, or the Departments of Commerce or Labor.

Miscellaneous

1. Members of the Committee serve without compensation, but may receive reimbursement for Committee-related travel and lodging expenses.

2. The Committee meets once or twice a year, budget permitting. Additional meetings may be held as deemed necessary by the Under Secretary for Economic Affairs or Designated Federal Official. All Committee meetings are open to the public in accordance with the Federal Advisory Committee Act.

Nomination Information

1. Nominations are requested as described above.

2. Committee members shall be professionals in appropriate disciplines, including economists, statisticians, survey methodologists, data scientists, and behavioral scientists who are prominent experts in their fields, recognized for their scientific, professional, and operational achievements and objectivity. Nominees must be prominent experts in their fields, and recognized for their scientific and professional achievements and objectivity. Such knowledge and expertise are needed to advise the agencies on statistical methodology and other technical matters related to the collection, tabulation, and analysis of federal economic statistics.

3. Individuals, groups, and/or organizations may submit nominations on behalf of an individual candidate. A summary of the candidate's qualifications (resume or curriculum vitae) must be included along with the nomination letter. Nominees must be able to actively participate in the tasks of the Committee including, but not limited to, regular meeting attendance, Committee meeting discussant responsibilities, review of materials, as well as participation in conference calls, webinars, working groups, and special Committee activities.

4. The Department of Commerce is committed to equal opportunity in the workplace and seeks diverse Committee membership.

Dated: March 6, 2019.
Steven D. Dillingham,
Director, Bureau of the Census.

[FR Doc. 2019-04533 Filed 3-12-19; 8:45 am]

BILLING CODE 3510-07-P